DEPARTMENT OF HEALTH AND HUMAN SERVICES

National Institutes of Health

Proposed Collection; 60-day Comment Request; Outcome Evaluation of the Broadening Experiences in Scientific Training (BEST) Program

SUMMARY: In compliance with the requirement of Section 3506(c)(2)(A) of the Paperwork Reduction Act of 1995, for opportunity for public comment on proposed data collection projects, the Office of Strategic Coordination (OSC), Division of Program Coordination, Planning, and Strategic Initiatives (DPCPSI), Office of the Director (OD), the National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and For Further Information: To obtain a copy of the data collection plans and instruments, submit comments in writing, or request more information on the proposed project, contact: Dr. Patricia Labosky, Office of Strategic Coordination, Division of Program Coordination, Planning, and Strategic Initiatives, Office of the Director, NIH, 1 Center Drive, MSC 0189, Building 1, Room 214A, Bethesda, MD 20892-0189; or call 301-594-4863; or email your request, including your address to: Workforce_Award@mail.nih.gov. Formal requests for additional plans and instruments must be requested in writing.

DATES: Comment Due Date: Comments regarding this information collection are best assured of having their full effect if received within 60 days of the date of this publication.

Proposed Collection: Outcome Evaluation of the Broadening Experiences in Scientific Training (BEST) Program, 0925-New, Office of Strategic Coordination, Division of Program Coordination, Planning, and Strategic Initiatives, Office of the Director, National Institutes of Health (NIH).

Need and Use of Information Collection: The goal of the BEST program is to complement and broaden both doctoral and postdoctoral traditional training experiences. The evaluation study will assess three desired outcomes of the BEST Program: (1) Changes in understanding of career opportunities, confidence to make career decisions, and attitudes towards career opportunities; (2) reduction in time desired, not training, nonterminal career opportunities, and reduction in time in postdoctoral positions; (3) creation/further development of institutional infrastructure to continue BEST-like activities. The findings will be used to (1) inform the NIH Director, the BEST program staff, and the biomedical training community on the outcomes of the program; and (2) disseminate best practices across biomedical training programs and the research community.

OMB approval is requested for 3 years. There are no costs to respondents other than their time. The estimated annualized burden hours are 16,502.

Estimated Annualized Burden Hours
Type of respondents | Number of respondents | Frequency of response | Average burden per response (in hours) | Annual hour burden
Graduate Student—Entrance Survey (online survey) | 5,901 | 1 | 45/60 | 4,426
Graduate Student—Interim Survey (online survey) | 14,753 | 1 | 20/60 | 4,918
Graduate Student—Graduation Survey (online survey) | 3,934 | 1 | 20/60 | 1,311
Graduate Student—Post-graduation 2-year Follow-up Survey (online survey) | 3,934 | 1 | 20/60 | 1,311
Postdoctoral Scientist—Entrance Survey (online survey) | 3,777 | 1 | 45/60 | 2,833
Postdoctoral Scientist—Exit Survey (online survey) | 2,518 | 1 | 20/60 | 839
Postdoctoral Scientist—Post-exit 2-year Follow-up Survey (online survey) | 2,518 | 1 | 20/60 | 839
Principal Investigators—Annual Interview (phone—end of each year of award ) | 25 | 1 | 1 | 25

Dated: August 20, 2014.
Lawrence A. Tabak,
Deputy Director, National Institutes of Health.

[FR Doc. 2014-20268 Filed 8-25-14; 8:45 am]

BILLING CODE 4140-01-P